SECURITIES AND EXCHANGE COMMISSION

Submissions for OMB Review; Comment Request

Upon Written Request,

Copies Available From: Securities and Exchange Commission, Office of Filings and Information Services, Washington, DC 20549

Extensions:

Form F-9, OMB Control No. 3235-0377, SEC File No. 270-333.

Form F-10, OMB Control No. 3235-0380, SEC File No. 270-334.

Notice is hereby given that pursuant to the Paperwork Reduction Act of 1995 (44 U.S.C. 3501 et seq.) the Securities and Exchange Commission (“Commission”) has submitted to the Office of Management and Budget requests for extension of the previously approved collections of information discussed below.

Form F-9 (17 CFR 239.39) is a registration statement under the Securities Act of 1933 that is used to register investment grade debt or investment grade preferred securities that are offered for cash or in connection with an exchange offer and are either non-convertible or not convertible for a period of at least one year from the date of issuance and thereafter are only convertible into a security of another class of the issuer. The purpose of the information collection is to permit verification of compliance with securities law requirements and to assure the public availability and dissemination of such information. The principal function of the Commission's forms and rules under the securities laws' disclosure provisions is to make information available to the investors. Form F-9 is a public document and all information provided is mandatory. We estimate that Form F-9 takes approximately 25 hours per response and it is filed by 18 respondents. We further estimate that 25% of the 450 annual burden hours (113 burden hours) are prepared by the company.

Form F-10 (17 CFR 239.40) is a registration statement under the Securities Act of 1933 that is used by certain Canadian “substantial issuers” (those issuers with at least 36 calendar months of reporting history with a securities commission in Canada and a market value of common stock of at least $360 million (Canadian) and an aggregate market value of common stock held by non-affiliates of at least $75 million (Canadian)). The purpose of the information collection is to facilitate cross-border offerings by specified Canadian issuers. Form F-10 is a public document and all information provided is mandatory. We estimate that Form F-10 take approximately 25 hours per response and is filed by 75 respondents. We further estimate that 25% of the 1,875 total burden hours (469 burden hours) are prepared by the company.

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503 or send an e-mail to David_Rostker@omb.eop.gov; and (ii) R. Corey Booth, Director/Chief Information Officer, Securities and Exchange Commission, c/o Shirley Martinson, 6432 General Green Way, Alexandria, Va. 22312 or send an e-mail to: PRA_Mailbox@sec.gov. Comments must be submitted to the Office of Management and Budget within 30 days of this notice.

Dated: April 6, 2006.
Nancy M. Morris,
Secretary.

[FR Doc. E6-5672 Filed 4-14-06; 8:45 am]

BILLING CODE 8010-01-P